DEPARTMENT OF THE TREASURY

Departmental Offices; Proposed Collection; Comment Request

ACTION: Notice and request for comments.

SUMMARY: The Department of the Treasury, as part of its continuing effort to reduce paperwork burdens, invites the general public and other Federal agencies to comment on an information collection that is due for reinstatement approval by the Office of Management and Budget. The Office of Program Services within the Department of the Treasury is soliciting comments concerning the Survey of U.S. Ownership of Foreign Securities as of December 31, 2001.

DATES: Written comments should be received on or before June 29, 2001.

ADDRESSES: Direct all written comments to: Dwight Wolkow, Administrator, International Portfolio Investment Data Systems, Department of the Treasury, Room 5205 MT, 1500 Pennsylvania Ave. NW, Washington DC 20220.

FOR FURTHER INFORMATION CONTACT: Requests for additional information or copies of the forms and instructions should be directed to Dwight Wolkow, Administrator, International Portfolio Investment Data Systems at the above address, or by emailing dwight/wolkow@do.treas.gov, or by faxing (202) 622-7448, or by calling (202) 622-1276.

SUPPLEMENTARY INFORMATION: Title: Survey of U.S. Ownership of Foreign Securities as of December 31, 2001.

OMB Number: 1505-0146.

Abstract: These forms are used to conduct periodic surveys of holdings by U.S. residents of foreign securities for portfolio investment purposes. These data are used by the U.S. Government in the formulation of international and financial policies and for the computation of the U.S. balance of payments and U.S. international investment position. The last such survey was conducted as of December 31, 1997, and clearly demonstrated the need for such periodic surveys by significantly altering the previously estimated level of U.S. holdings of foreign long-term securities.

This survey is also part fon an internationally coordinated effort under the auspices of the International Monetary Fund to improve data on securities worldwide. These data are believed to be in serious error on a worldwide basis. Most of the major industrial and financial countries will be participating in this survey.

Current Actions: Data will be collected on short-term securities as well as long-term securities to conform to IMF survey standards. The exemption level for reporting will be raised from $20 million to $50 million of holdings by U.S. residents of foreign securities. Financial derivatives will be excluded. The exchange rate item will be replaced with requests for some items valued both in U.S. dollars and in foreign currency to improve data quality without significantly increasing respondent burden. The forms and instructions will be restructured to improve clarity. Data will be collected primarily from custodians of securities, and from major investors if they do not employ U.S. custodians. Investors employing U.S. custodians need only identify their custodians and the amounts entrusted to them.

Type of Review: Reinstatement with change.

Affected Public: Business/Financial Institutions.

Forms: OMB No. 1505-0146, Schedule 1, Schedule 2, and Schedule 3.

Estimated Number of Respondents: 2,360.

Estimated Time per Respondent: 384 hours on average for custodians of securities providing detailed information, 104 hours on average for end-investors providing detailed information, 40 hours on average for reporters employing U.S. custodians, and 16 hours on average for reporters claiming exemptions. Custodians with less than $50 million foreign long-term securities are exempt from reporting on the survey. The amount of time required to complete the survey will vary depending on the amount of data to report.

Estimated Total Burden: 108,300 hours.

Frequency of Response: At least once every three years.

Request for Comments

Comments submitted in response to this notice will be summarized and/or included in the request for Office of Management and Budget approval. All comments will become a matter of public record. The public is invited to submit written comments concerning: (a) Whether the Survey is necessary for the proper performance of the functions of the Office, including whether the information shall have practical uses; (b) the accuracy of the above estimate of the burdens; (c) ways to enhance the quality, usefulness and clarity of the information to be collected; (d) ways to minimize the reporting and/or record keeping burdens on respondents, including the use of information technologies to automate the collection of the data; and (e) estimates of capital or start-up costs of operation, maintenance and purchase of services to provide information.

Dwight Wolkow,
Administrator, International Portfolio Investment Data Systems.

[FR Doc. 01-10610 Filed 4-27-01; 8:45 am]

BILLING CODE 4810-25-M